DEPARTMENT OF JUSTICE

National Institute of Corrections

Solicitation for a Cooperative Agreement: Development of Two Documents—Inmate Behavior Management: A Guide to Meeting Inmates' Basic Needs and—Inmate Behavior Management: A Guide to Defining and Conveying Expectations for Inmates

AGENCY: National Institute of Corrections, Department of Justice.

ACTION: Solicitation for a Cooperative Agreement.

SUMMARY: The National Institute of Corrections, Jails Division, is seeking applications for the development of two documents that provide jail practitioners with a guide on (1) meeting inmates' basic needs and (2) defining and conveying expectations for inmates as part of an overall strategy to manage inmate behavior.

DATES: Applications must be received by 4 p.m. (EDT) on Thursday, May 6, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, ext. 0 for pickup.

Faxed or e-mailed applications will not be accepted.

Electronic applications can only be submitted via http://www.grants.gov.

FOR FURTHER INFORMATION CONTACT: A copy of this announcement and links to the required application forms can be found on NIC's Web page at http://www.nicic.gov.

All technical or programmatic questions concerning this announcement should be directed to Fran Zandi, Correctional Program Specialist, National Institute of Corrections, Jails Division. Ms. Zandi can be reached at 1-800-995-6423, ext. 71070 or by e-mail at fzandi@bop.gov.

SUPPLEMENTARY INFORMATION:

Background: The National Institute of Corrections (NIC) has identified six key elements in the effective management of inmate behavior in jails: (1) Assessing the risks and needs of each inmate at various points during his/her detention; (2) Assigning inmates to appropriate housing; (3) Meeting inmates' basic needs; (4) Defining and conveying expectations for inmate behavior; (5) Supervising inmates; and 6) Keeping inmates productively occupied.

If a jail fully and properly implements all six elements, it should experience a significant reduction in the unwanted and negative inmate behavior often experienced in jails, such as vandalism, violence, rule violations, and disrespectful behavior toward staff and other inmates.

Purpose: The NIC Jails Division offers training and technical assistance on inmate behavior management, but wishes to develop additional tools that will help jails implement the individual elements.

Scope of Work: The National Institute of Corrections wishes to produce two documents that provide jail practitioners specific guidance on, and tools for, implementing elements #3 and #4 in their own jurisdiction as part of the overall inmate behavior management strategy.

Document Length: The number of pages in the body is to be determined. The documents will include appendices and a bibliography.

Document Audience: Jail administrators and management staff. This guide is intended for use by jails of all sizes. In developing the document, the awardee must take into account the diversity of jails in terms of size and resources, and the sometimes severe resource limitations many jails face.

Use of Document: Jail practitioners will use these documents as guides on meeting inmates' basic needs, and defining and conveying expectations for inmates, as part of an overall strategy to manage inmate behavior. They will be companion documents as part of a set of materials NIC is developing on inmate behavior management.

Document Distribution: NIC expects to distribute the documents widely. They will be made available on the NIC Web site and through the NIC Information Center, upon request and free of charge.

Document Content: Document content will reflect and expand on the information in NIC's “Inmate Behavior Management: The Key to a Safe and Secure Jail”. This document is available at http://nicic.gov/library/023882.

The documents will be clear and practical guides for jail practitioners. They will have a common format, which will be developed by the awardee in conjunction with NIC staff. Each document will include, at a minimum: An overview of the six key elements of inmate behavior management; An in-depth discussion of the individual element; What the document addresses, including why it is key to managing inmate behavior, its relationship to the other five elements, the benefits of implementing the element, and the potential consequences of failing to implement it (this discussion will also cite anecdotal evidence or research that demonstrates the usefulness of the element in managing inmate behavior); a discussion of processes and indicators that can be used to assess the degree to which a jail currently implements the element, with sample assessment tools; Specific strategies for fully implementing the element; a discussion of the associated policies and procedures, staff training, staff supervision strategies, and resource requirements to successfully implement the element (the document will include samples of policies, procedures, staff training tools, information for inmates, and other related documents); guidance on how to set realistic and measurable goals for element implementation; suggested processes for evaluating both the quality of the implementation and the success in achieving goals (For each type of evaluation, the document will describe evaluation timeframes, data that should be collected, data collection methods, and data collection analysis); a discussion of the importance of the administrator's commitment to implementing the element; and concrete examples of how the administrator can demonstrate this commitment.

Project Description: The awardee will produce two completed documents that have received initial editing from a professional editor. NIC will be responsible for the final editing process and document design, but the awardee will remain available during this time to answer questions and to make revisions to the documents.

Project Schedule: The list below shows the major activities required to complete the project. Document development will begin upon award of this agreement and must be complete 18 months after the award date. The schedule for completion of activities should include, at a minimum, the following activities. The awardee will: Meet with the NIC project manager for an overview of the project and initial planning; Review materials provided by NIC; complete the initial outline of document content and layout; Meet with the NIC project manager by WebEx to review, discuss, and agree on the content outline; research content topics and related resources; Submit draft sections of the document to NIC for review; revise draft sections for NIC's approval; submit document to the editor hired by the awardee for the first content edit; submit a draft of entire document to NIC for review; Revise the document for NIC's approval; and submit the document to NIC in hard copy and on disk in Microsoft Word format.

Throughout the project period, the awardee will make provisions for meetings with NIC staff, to be held in Washington DC or via WebEx, at critical planning and review points in document development.

Document Preparation: For all awards in which a document will be a deliverable, the awardee must follow the guidelines listed herein, as well as follow the Guidelines for Preparing and Submitting Manuscripts for Publication as found in the “General Guidelines for Cooperative Agreements,” which will be included in the award package. All final publications submitted for posting on the NIC Web site must meet the Federal government's requirement for accessibility (508 PDF or HTML file).

The awardee must also provide descriptive text interpreting all graphics, photos, graphs and/or multimedia to be included with, or distributed alongside, the documents. In addition, the awardee will provide transcripts for all audio/visual materials, if applicable.

An applicant conference will be held on Friday, April 30, 2010 from 1 p.m. to 3 p.m. (EDT) by WebEx. The conference will give applicants the opportunity to meet with NIC project staff and ask questions about the project and the application procedures. Attendance at the conference is optional. Provisions will be made using WebEx technology (telephone and computer-based conferencing). The WebEx session requires applicants to have access to a telephone and computer. Applicants who plan to attend via WebEx should e-mail Fran Zandi, NIC Jails Division, Correctional Program Specialist at fzandi@bop.gov by Tuesday, April 27, 2010 by 3 p.m. (EDT).

Application Requirements: An application package must include OMB Standard Form 424, Application for Federal Assistance; a cover letter that identifies the audit agency responsible for the applicant's financial accounts as well as the audit period or fiscal year that the applicant operates under (e.g., July 1 through June 30); and an outline of projected costs. The following forms must also be included: OMB Standard Form 424A, Budget Information—Non-Construction Programs; OMB Standard Form 424B, Assurances—Non-Construction Programs (both available at http://www.grants.gov) and DOJ/NIC Certification Regarding Lobbying; Debarment, Suspension and Other Responsibility Matters; and the Drug-Free Workplace Requirements (available at http://www.nicic.gov/Downloads/PDF/certif-frm.pdf).

Applications should be concisely written, typed double spaced and reference the NIC Opportunity Number and Title provided in this announcement.

Submit an original and three copies of your full proposal (program and budget narrative, application forms and assurances). The original should have the applicant's signature in blue ink. As previously stated, electronic submissions will only be accepted via http://www.grants.gov.

The narrative portion of the application should include, at a minimum: A brief paragraph indicating the applicant's understanding of the purpose of the document and the issues to be addressed; a brief paragraph that summarizes the project goals and objectives; a clear description of the methodology that will be used to complete the project and achieve its goals; a statement or chart of measurable project milestones and time lines for the completion of each milestone; a description of the qualifications of the applicant organization and a resume for the principal and each staff member assigned to the project that documents relevant knowledge, skills and ability to carry out the project; a minimum of three references for which the applicant has provided a similar service; a budget that details all costs for the project, shows consideration for all contingencies for this project, and notes a commitment to work within the proposed budget.

Authority: Public Law 93-415.

Funds Available: NIC is seeking the applicant's best ideas regarding accomplishment of the scope of work and the related costs for achieving the goals of this solicitation. Funds may only be used for the activities that are linked to the desired outcome of the project.

Eligibility of Applicants: Applications are solicited from any state or general unit of local government, private agency, educational institution, organization, individual or team with expertise in the described areas. Applicants must have a demonstrated ability to implement a project of this size and scope.

Review Considerations: Applications will be reviewed by a team of NIC staff. Among the criteria used to evaluate the applications are: Indication of a clear understanding of the project requirements; background, experience, and expertise of the proposed project staff, including any sub-contractors; effectiveness of the creative approach to the project; clear, concise description of all elements and tasks of the project, with sufficient and realistic time frames necessary to complete the tasks; technical soundness of project design and methodology; financial and administrative integrity of the proposal, including adherence to federal financial guidelines and processes; a sufficiently detailed budget that shows consideration of all contingencies for this project and commitment to work within the budget proposed; Indication of availability to meet with NIC staff.

Number of Awards: One.

NIC Opportunity Number: 10J74.

Catalog of Federal Domestic Assistance Number: 16.601.

Executive Order 12372: This project is not subject to the provisions of Executive Order 12372.

Morris Thigpen,
Director, National Institute of Corrections.

[FR Doc. 2010-9102 Filed 4-20-10; 8:45 am]

BILLING CODE 4410-36-P #